DEPARTMENT OF ENERGY

Federal Energy Regulatory Commission

Combined Notice of Filings #2

Take notice that the Commission received the following electric rate filings:

Docket Numbers: ER11-2664-001.

Applicants: Powerex Corp.

Description: Powerex Corp. submits tariff filing per 35: Rate Schedule No. 1 Compliance Filing to be effective 3/1/2012 under ER11-2664.

Filed Date: 3/23/12.

Accession Number: 20120323-5133.

Comments Due: 5 p.m. ET 4/13/12.

Docket Numbers: ER12-1095-001.

Applicants: PJM Interconnection, L.L.C.

Description: PJM Interconnection, L.L.C. submits tariff filing per 35.17(b): Errata incorporating TOA Sec 4.8.4 re Direct Billing to Late Outages—ER12-1095 to be effective 4/16/2012.

Filed Date: 3/23/12.

Accession Number: 20120323-5098.

Comments Due: 5 p.m. ET 4/13/12.

Docket Numbers: ER12-1265-001.

Applicants: Midwest Independent Transmission System Operator, Inc.

Description: Midwest Independent Transmission System Operator, Inc. submits tariff filing per 35: 03-23-2012 Order 719 Compliance Amendment to be effective 6/12/2012.

Filed Date: 3/23/12.

Accession Number: 20120323-5147.

Comments Due: 5 p.m. ET 4/13/12.

Docket Numbers: ER12-1266-001.

Applicants: Midwest Independent Transmission System Operator, Inc.

Description: Midwest Independent Transmission System Operator, Inc. submits tariff filing per 35: 03-23-2012 Order 745 Amendment to be effective 6/12/2012.

Filed Date: 3/23/12.

Accession Number: 20120323-5146.

Comments Due: 5 p.m. ET 4/13/12.

Docket Numbers: ER12-1327-000.

Applicants: PJM Interconnection, L.L.C., Metropolitan Edison Company.

Description: FirstEnergy submits GenOn-MetEd Memorandum of Understanding, PJM SA No. 3273 to be effective 3/13/2012.

Filed Date: 3/23/12.

Accession Number: 20120323-5086.

Comments Due: 5 p.m. ET 4/13/12.

Docket Numbers: ER12-1329-000.

Applicants: Wildcat Wind Farm I, LLC.

Description: Wildcat Wind Farm I, LLC submits tariff filing per 35.12: Market-Based Rate Application to be effective 3/23/2012.

Filed Date: 3/23/12.

Accession Number: 20120323-5092.

Comments Due: 5 p.m. ET 4/13/12.

Docket Numbers: ER12-1330-000.

Applicants: PJM Interconnection, L.L.C., Commonwealth Edison Company.

Description: PJM Interconnection, L.L.C. submits tariff filing per 35.13(a)(2)(iii): ComEd submits revisions to PJM Tariff Attachment M-2 (ComEd) to be effective 5/29/2012.

Filed Date: 3/23/12.

Accession Number: 20120323-5103.

Comments Due: 5 p.m. ET 4/13/12.

Docket Numbers: ER12-1331-000.

Applicants: Southern California Edison Company.

Description: Southern California Edison Company submits tariff filing per 35.13(a)(2)(iii): SGIA WDAT SERV AG SCE-SEPV 9 LLC SEPV 9 Project to be effective 3/23/2012.

Filed Date: 3/23/12.

Accession Number: 20120323-5106.

Comments Due: 5 p.m. ET 4/13/12.

Docket Numbers: ER12-1332-000.

Applicants: Southwestern Public Service Company.

Description: Southwestern Public Service Company submits tariff filing per 35.13(a)(2)(iii): 2012-3-23_CWnd1-E&P-653 0.0.0 Agmt to be effective 3/24/2012.

Filed Date: 3/23/12.

Accession Number: 20120323-5129.

Comments Due: 5 p.m. ET 4/13/12.

Docket Numbers: ER12-1333-000.

Applicants: ISO New England Inc.

Description: ISO New England Inc. Highland Wind Resource Termination.

Filed Date: 3/23/12.

Accession Number: 20120323-5142.

Comments Due: 5 p.m. ET 4/13/12.

Docket Numbers: ER12-1334-000.

Applicants: ISO New England Inc.

Description: ISO New England Inc. Ansonia Resource Termination.

Filed Date: 3/23/12.

Accession Number: 20120323-5143.

Comments Due: 5 p.m. ET 4/13/12.

Take notice that the Commission received the following electric securities filings:

Docket Numbers: ES12-26-000.

Applicants: Ameren Services Company, Union Electric Company.

Description: Supplemental information of Ameren Missouri.

Filed Date: 3/23/12.

Accession Number: 20120323-5035.

Comments Due: 5 p.m. ET 4/2/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 23, 2012.
Nathaniel J. Davis, Sr.,
Deputy Secretary.

[FR Doc. 2012-7888 Filed 4-2-12; 8:45 am]

BILLING CODE 6717-01-P